NATIONAL SCIENCE FOUNDATION

National Science Board and Its Subdivisions; Meetings

Date and Time: August 10-11, 2005.

August 10, 2005 7:30 a.m.-5 p.m.

Sessions:

7:30 a.m.-8:30 a.m.—Open.

8:30 a.m.-9 a.m.—Open.

8:30 a.m.-10:30 a.m.—Open.

10:30 a.m.-12:30 p.m.—Open.

12:45 p.m.-1 p.m.—Open.

1 p.m.-1:30 p.m.—Closed.

1:30 p.m.-2:15 p.m.—Open.

2:15 p.m.-3:30 p.m.—Closed.

3:30 p.m.-5 p.m.—Open.

August 11, 2005 8 a.m.-3:30 p.m.

Sessions:

8 a.m.-8:30 a.m.—Open.

8:30 a.m.-10 a.m.—Open.

10 a.m.-10:30 a.m.—Closed.

10:30 a.m.-11 a.m.—Open.

11 a.m.-12 noon—Closed.

12:30 p.m.-12:45 p.m.—Executive Closed.

12:45 p.m.-1 p.m.—Closed.

1 p.m.-3:30 p.m.—Open.

Place: National Science Foundation, 4201 Wilson Blvd, Rooms 1235 and 1295, Arlington, VA 22230.

Public Meeting Attendance: All visitors must report to the NSF's visitor's desk at the 9th and N. Stuart Streets entrance to receive a visitor's badge.

Contact Information: Please refer to the National Science Board Web site (http://www.nsf.gov/nsb) for updated schedule. NSB Office: (703) 292-7000.

Status: Part of this meeting will be closed to the public. Part of this meeting will be open to the public.

Matters To Be Considered:

Wednesday, August 10, 2005

Open:

Committee on Programs & Plans Subcommittee on Polar Issues (7:30 a.m.-8:30 a.m.) Room 1235

• Chair's Remarks and Approval of Minutes

• OPP Director's Report

• South Pole Station Status Report

• OPP Advisory Committee Study of Antarctic Resupply Options

• Polar Icebreaker Availability

• Preparations for the International Polar Year

Committee on Programs & Plans Task Force on Transformative Research (8:30 a.m.-9 a.m.) Room 1295

• Approval of Minutes

• Update on Workshop: August 12, 2005 at NSF

• Discussion on possible Future Workshop Themes, Locations, and Dates

Education & Human Resources Subcommittee on S&E Indicators (8:30 a.m.-10:30 a.m.) Room 1235

• Approval of Minutes

• Discussion of Orange Book

• Discussion of Draft Overview chapter

• Science and Engineering Indicators 2006 cover

• Discussion of Draft Companion Piece

• Contractor Presentation on Indicators

Committee on Education & Human Resources (10:30 a.m.-12:30 p.m.) Room 1235

• Approval of Minutes

• NSF Staff Presentations

○ Update on Math and Science Partnerships Program

○ NSF Integration of Research and education

• NSB items

○ House Roundtable on the S&T Workforce

○ Innovation Summit

• NSB Commission on Education

• NSB/EHR Committee's Contribution to Board's Vision for NSF

• Subcommittee on Science and Engineering Indicators

• Update on Engineering Education Workshop

Executive Committee (12:45 p.m.-1 p.m.) Room 1235

• Approval of Minutes

• Updates or New Business from Committee Members

Joint Session: Committee on Strategy and Budget and Committee on Programs and Plans (1:30 p.m.-2:15 p.m.) Room 1235

• Centers and the NSF Portfolio

• Funding Rates, Award Size and Duration

Committee on Programs & Plans (3:30 p.m.-5 p.m.) Room 1235

• Approval of Minutes

• Vision Task Force

• Status of International Science Effort

• Status Reports

○ Long-lived Digital Data Collections

○ Transformative Research Task Force

○ Subcommittee on Polar Issues

• Process for Sending Information & Actions to CPP & NSB

• Major Research Facilities:

○ Status of Facility Plan and Guide

Closed

Executive Committee (1 p.m.-1:30 p.m.) Room 1235

• Candidate Sites for NSB Retreat/Off-Site Visit

• Director's Items: Personnel Matters and Future Budgets

Committee on Programs & Plans (2:15 p.m.-3:30 p.m.) Room 1235

• Action Items

○ Rare Symmetry Violating Process (RSVP)

○ Maize Genome Sequencing

• Information Items

○ ALMA Update

○ Deep Underground Science and Engineering Laboratory

Thursday, August 11, 2005

Open

Committee on Programs & Plans (8 a.m.-8:30 a.m.) Room 1235

• Cyberinfrastructure Vision

Committee on Audit & Oversight (8:30 a.m.-10 a.m.) Room 1235

• Approval of Minutes

• Report by NSF Advisory Committee on GPRA Performance Assessment

• Discussion of NSF Vision Document: NSB Roles and Responsibilities

• Discussion of Draft Report of NSF Merit Review System Review

• NSB Policy Statement on Respective Roles of the OIG and NSF Management in the Pursuit and Settlement of Administrative Investigatory Matters

• Status of Financial Audit Procurement

• CFO Update on Plan To Address Reportable Conditions of FY 2004 Audit

Committee on Strategy and Budget (10:30 a.m.-11 a.m.) Room 1235

• Chair's Remarks and Approval of Minutes

• Discussion of Committee Input to Vision Task Force

• Status of FY 2006 Budget Request to Congress

Closed Session

Committee on Audit & Oversight (10 a.m.-10:30 a.m.) Room 1235

• OIG Budget

• Pending Investigations

Committee on Strategy & Budget (11 a.m.-12 noon) Room 1235

• Approval of Minutes

• Discussion of FY 2007 Budget Submission to OMB

• Recommendations for FY 2007 Budget Submission

Plenary Session of the Board (12:30 p.m.-1 p.m.)

Executive Closed Session (12:30 p.m.-12:45 p.m.) Room 1235

• Approval of Executive Closed Minutes

Closed Session (12:45 p.m.-1 p.m.) Room 1235

• Approval of Closed Session Minutes

• Awards and Agreements

• Closed Committee Reports

Open Session (1 p.m.-3:30 p.m.) Room 1235

• Approval of Minutes

• Resolution to Close September 2005

• Chairman's Report

• Director's Report

• Committee Reports

• Report of ad hoc Vision Task Group

Michael P. Crosby,
Executive Officer and NSB Office Director.

[FR Doc. 05-15248 Filed 7-28-05; 3:12 pm]

BILLING CODE 7555-01-U